DEPARTMENT OF ENERGY

Federal Energy Regulatory Commission

[Docket No. RP04-186-000]

Transcontinental Gas Pipe Line Corporation; Notice of Tariff Filing

March 3, 2004.

Take notice that on February 27, 2004, Tanscontinental Gas Pipe Line Corporation (Transco) tendered for filing as part of its FERC Gas Tariff, Third Revised Volume No. 1, the tariff sheets listed on Appendix A to the filing, with a proposed effective date of March 1, 2004.

Transco states that the purpose of the instant filing is to submit an interim Great Plains Surcharge Filing (GPS) in accordance with section 39.9 of Transco's General Terms and Conditions to its FERC Gas Tariff. Transco notes that the GPS is being revised to include the effects of the buy out and termination of the Gas Purchase Agreement with Dakota Gasification Company, and the termination of certain related firm transportation contracts. Transco further states that the instant filing is made pursuant to a letter order issued by the Commission on January 21, 2004 in Docket No. RP04-118-000, and that the revised GPS proposed in the instant filing is to be collected over the Buyout Recovery Period, March 1, 2004 through February 28, 2005. Transco states that Appendix B attached to the filing supports the recalculation of the revised GPS Surcharge.

Transco states that copies of the filing are being mailed to affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-488 Filed 3-8-04; 8:45 am]

BILLING CODE 6717-01-P